DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, Division of Injury Compensation Programs, 5600 Fishers Lane, Room 14W-18, Rockville, Maryland 20857; 1-800-338-2382, or visit our website at: https://www.hrsa.gov/vaccine-compensation.

SUPPLEMENTARY INFORMATION: The Program provides a system of no-fault compensation for certain individuals who have been injured by specific vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on July 1, 2025, through July 31, 2025. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 14W-18, Rockville, Maryland 20857. The Court's caption (Petitioner's Name v. Secretary of HHS) and the docket number assigned to the petition should be used as the caption for the written submission. Chapter 35 of Title 44, United States Code, related to paperwork reduction, does not apply to information required for purposes of carrying out the Program.

Thomas J. Engels,
Administrator.

List of Petitions Filed

1. Jermarro Dantzler, Black River Falls, Wisconsin, Court of Federal Claims No: 25-1107V

2. Lisa Thompson, Suwanee, Georgia, Court of Federal Claims No: 25-1113V

3. Jonathan David Wilke, Boscobel, Wisconsin, Court of Federal Claims No: 25-1116V

4. Rodolfo Alcantar on behalf of D.A., Phoenix, Arizona, Court of Federal Claims No: 25-1117V

5. Naureen Fayyaz, Woodrige, Illinois, Court of Federal Claims No: 25-1119V

6. Alfred Boland, Hot Springs Village, Arkansas, Court of Federal Claims No: 25-1122V

7. Caira Conner, Brooklyn, New York, Court of Federal Claims No: 25-1123V

8. Travis Williams, Boscobel, Wisconsin, Court of Federal Claims No: 25-1124V

9. Beverly Bell, Houston, Texas, Court of Federal Claims No: 25-1125V

10. Robert Fugate, Phoenix, Arizona, Court of Federal Claims No: 25-1127V

11. Nancy Vazquez Campoverde, New Haven, Connecticut, Court of Federal Claims No: 25-1133V

12. Sheva Ehrenfeld, Brooklyn, New York, Court of Federal Claims No: 25-1135V

13. Linda Gil, San Antonio, Texas, Court of Federal Claims No: 25-1136V

14. Ramata Balo, Philadelphia, Pennsylvania, Court of Federal Claims No: 25-1137V

15. Corene French and Jonathan de Vargas on behalf of R.D., Salem, Oregon, Court of Federal Claims No: 25-1138V

16. Diane Mkitarian, Beverly Hills, California, Court of Federal Claims No: 25-1139V

17. David T. Duncan, Salisbury, North Carolina, Court of Federal Claims No: 25-1141V

18. Larry L. Brown, Oshkosh, Wisconsin, Court of Federal Claims No: 25-1142V

19. Lilia Vallin, Las Vegas, Nevada, Court of Federal Claims No: 25-1143V

20. Brynn Henry, Lancaster, Pennsylvania, Court of Federal Claims No: 25-1144V

21. Diane Racho, Arlington, Texas, Court of Federal Claims No: 25-1147V

22. Leslie Garrett, New York, New York, Court of Federal Claims No: 25-1148V

23. Rosa Colombo on behalf of Francesco Colombo, Deceased, Phoenix, Arizona, Court of Federal Claims No: 25-1151V

24. William Schulte, Littleton, Colorado, Court of Federal Claims No: 25-1152V

25. Travis Kirwan, Washington, DC, Court of Federal Claims No: 25-1153V

26. Lamon Akagbor, Morrisville, North Carolina, Court of Federal Claims No: 25-1154V

27. Angelene M. Hampton, Winston Salem, North Carolina, Court of Federal Claims No: 25-1156V

28. Sharon Stefanoni, Aliso Viejo, California, Court of Federal Claims No: 25-1157V

29. Antonio Martinez, Albuquerque, New Mexico, Court of Federal Claims No: 25-1158V

30. Anastasia Caso on behalf of J.A.C., Encinatas, California, Court of Federal Claims No: 25-1159V

31. Dawn Stewart, Tampa, Florida, Court of Federal Claims No: 25-1160V

32. Jack Wingo III, Boscobel, Wisconsin, Court of Federal Claims No: 25-1161V

33. Tina Marie Vargas, Torrence, California, Court of Federal Claims No: 25-1163V

34. Willis J. Fittry Sr., Richmond, Virginia, Court of Federal Claims No: 25-1165V

35. Constance Gooding, Hamilton, Ohio, Court of Federal Claims No: 25-1169V

36. Mapleton, Illinois, Court of Federal Claims No: 25-1170V

37. Marilyn Biela on behalf of Alvin Biela, Deceased, San Antonio, Texas, Court of Federal Claims No: 25-1171V

38. David Harder, Witchita, Kansas, Court of Federal Claims No: 25-1172V

39. Jessica Byrd, Aurora, Colorado, Court of Federal Claims No: 25-1173V

40. Omethrice Johnson-Curtis, Homewood, Illinois, Court of Federal Claims No: 25-1174V

41. Mason Cowart, Stockbridge, Georgia, Court of Federal Claims No: 25-1175V

42. John Idzikowski, Milwaukee, Wisconsin, Court of Federal Claims No: 25-1176V

43. Marie Temple, Corunna, Michigan, Court of Federal Claims No: 25-1178V

44. Tamara J. Elhardt, Charlotte, North Carolina, Court of Federal Claims No: 25-1180V

45. Maddison Blair Addington Ayala, Lakewood, California, Court of Federal Claims No: 25-1181V

46. Rose Martin, Portland, Oregon, Court of Federal Claims No: 25-1183V

47. Ralph McKellar, Brentwood, Tennessee, Court of Federal Claims No: 25-1184V

48. Buffy Pellerito, Newburgh, Indiana, Court of Federal Claims No: 25-1185V

49. Ronald Hawkins, Manning, South Carolina, Court of Federal Claims No: 25-1186V

50. Sarah Hughart, Buckley, West Virginia, Court of Federal Claims No: 25-1187V

51. Karen Goodman, Mount Vernon, Washington, Court of Federal Claims No: 25-1188V

52. James Glasco, Burton, Michigan, Court of Federal Claims No: 25-1190V

53. Linda Sundquist, Richmond, Virginia, Court of Federal Claims No: 25-1192V

54. Ivette Nieves, Trumbull, Connecticut, Court of Federal Claims No: 25-1194V

55. Thomas Bond, Edinburgh, Indiana, Court of Federal Claims No: 25-1196V

56. Pamela Parker, La Crosse, Wisconsin, Court of Federal Claims No: 25-1199V

57. Vicki Buttrum on behalf of S.B., Morton, Illinois, Court of Federal Claims No: 25-1200V

58. Linda Roark on behalf of B.T., Los Angeles, California, Court of Federal Claims No: 25-1201V

59. Raquel Lugo, Middleton, Connecticut, Court of Federal Claims No: 25-1202V

60. Jacob Palmer on behald of A.P., Harrisbugh, Illinois, Court of Federal Claims No: 25-1205V

61. Leeann Fitzgerald, Wichita, Kansas, Court of Federal Claims No: 25-1206V

62. Rebecca Kleven, Oshkosh, Wisconsin, Court of Federal Claims No: 25-1207V

63. Donna Mayer, Boston, Massachusetts, Court of Federal Claims No: 25-1208V

64. Glenda Evans, Greenville, North Carolina, Court of Federal Claims No: 25-1210V

65. Tamara Tanninen, Richland, Washington, Court of Federal Claims No: 25-1213V

66. Meadria Mcintyre, Grove Hill, Alabama, Court of Federal Claims No: 25-1214V

67. Crystal Campbell, Bossier City, Louisiana, Court of Federal Claims No: 25-1216V

68. Nigel Jackson, Springfield, Virginia, Court of Federal Claims No: 25-1217V

69. Eric Chavis, Halethorpe, Maryland, Court of Federal Claims No: 25-1220V

70. Lindsay Schofield, Erie, Pennsylvania, Court of Federal Claims No: 25-1221V

71. Betty Sanfratello, Seattle, Washington, Court of Federal Claims No: 25-1222V

72. Ellie Grabow, Maple Grove, Minnesota, Court of Federal Claims No: 25-1224V

73. Selena Rice, Charleston, West Virginia, Court of Federal Claims No: 25-1228V

74. John Alexander, Woodrige, Illinois, Court of Federal Claims No: 25-1230V

75. Charles Fontana, Woodrige, Illinois, Court of Federal Claims No: 25-1231V

76. Kim Dunn on behalf of the estate of Otto Schwab, Deceased, Indianapolis, Indiana, Court of Federal Claims No: 25-1233V

77. Christopher Jackson, Sturtevant, Wisconsin, Court of Federal Claims No: 25-1237V

78. Patricia Ramsey, Kingman, Arizona, Court of Federal Claims No: 25-1239V

79. Brenda Cosby, Richmond, Virginia, Court of Federal Claims No: 25-1242V

80. Brooklyn Laverne Zen, Towson, Maryland, Court of Federal Claims No: 25-1243V

81. Peggy Hill, Jackson, Michigan, Court of Federal Claims No: 25-1244V

82. Cherisse Weekly, Woodstock, Georgia, Court of Federal Claims No: 25-1246V

83. Tyson Hayes, Overland Park, Kansas, Court of Federal Claims No: 25-1247V

84. David Sjurson, Hartford, Wisconsin, Court of Federal Claims No: 25-1248V

85. Maria Rodriguez, San Antonio, Texas, Court of Federal Claims No: 25-1250V

86. Yamzey Gonzalez, North Port, Florida, Court of Federal Claims No: 25-1251V

87. Stacey Vore, Washington, DC, Court of Federal Claims No: 25-1254V

88. Sylvia Caravetta, Delray Beach, Florida, Court of Federal Claims No: 25-1255V

89. Essie Anderson, New York, New York, Court of Federal Claims No: 25-1257V

90. Virginia Commander, Englewood, New Jersey, Court of Federal Claims No: 25-1258V

91. Isaiah N. Triggs, Milwaukee, Wisconsin, Court of Federal Claims No: 25-1259V

92. Teresa Bellanger, Washington, DC, Court of Federal Claims No: 25-1260V

93. Kathy Veazey, Oklahoma City, Oklahoma, Court of Federal Claims No: 25-1261V

[FR Doc. 2025-17530 Filed 9-10-25; 8:45 am]

BILLING CODE 4165-15-P